DEPARTMENT OF LABOR

Employment and Training Administration

[TA-W-61,587]

Sunspring America, Inc. Formerly Gamco Products Company, Henderson, KY; Notice of Termination of Investigation

Pursuant to Section 221 of the Trade Act of 1974, as amended, an investigation was initiated on May 24, 2007 in response to a worker petition filed on behalf of workers of Sunspring America Inc., formerly Gamco Products Company, Henderson, Kentucky.

The petitioning group of workers is covered by an active certification (TA-W-58,640) which expires on February 24, 2008. Consequently, further investigation in this case would serve no purpose, and the investigation has been terminated.

Signed at Washington, DC, this 27th day of June 2007.
Richard Church,
Certifying Officer, Division of Trade Adjustment Assistance.

[FR Doc. E7-12916 Filed 7-3-07; 8:45 am]

BILLING CODE 4510-FN-P